DEPARTMENT OF ENERGY

Federal Energy Regulatory Commission

[Project No. 11858-002, California]

Elsinore Municipal Water District and the Nevada Hydro Company, Inc.; Notice of Availability of the Draft Environmental Impact Statement for the Proposed Lake Elsinore Advanced Pumped Storage Project

February 17, 2006.

In accordance with the National Environmental Policy Act of 1969 and the Federal Energy Regulatory Commission's (Commission) regulations, 18 CFR part 380 (Order No. 486, 52 FR 47897), the Office of Energy Projects has reviewed the application for license for the proposed Lake Elsinore Advanced Pumped Storage Project (FERC No. 11858), located on Lake Elsinore and San Juan Creek, in the Town of Lake Elsinore, Riverside County, California, and has prepared a Draft Environmental Impact Statement (draft EIS) for the project.

In the draft EIS, Commission staff evaluate the co-applicant's proposal and the alternatives for licensing the proposed project. The draft EIS documents the views of governmental agencies, non-governmental organizations, affected Indian tribes, the public, the license applicants, and Commission staff.

Comments should be filed with Magalie R. Salas, Secretary, Federal Energy Regulatory Commission, 888 First Street, NE., Washington, DC 20426. All comments must be filed by April 25, 2006, and should reference Project No. 11858-002. Comments may be filed electronically via the Internet in lieu of paper. The Commission strongly encourages electronic filings. See 18 CFR 385.2001(a)(1)(iii) and instructions on the Commission's Web site at http://www.ferc.gov under the eLibrary link.

The Commission staff will consider comments made on the draft EIS in preparing a final EIS for the project, which we expect to issue in July of this year. Before the Commission makes a licensing decision, it will take into account all concerns relevant to the public interest. The final EIS will be part of the record from which the Commission will make its decision.

Copies of the draft EIS are available for review in the Commission's Public Reference Branch, Room 2A, located at 888 First Street, NE., Washington, DC 20426. The draft EIS also may be viewed on the Internet at http://www.ferc.gov under the eLibrary link. Please call (202) 502-8822 for assistance.

You may also register online at http://www.ferc.gov/docs-filing/esubscription.asp to be notified via e-mail of new filings and issuances related to this or other pending projects. For assistance, contact FERC Online Support.

For further information, contact Jim Fargo at (202) 502-6095 or at james.fargo@ferc.gov.

Magalie R. Salas,
Secretary.

[FR Doc. E6-2704 Filed 2-24-06; 8:45 am]

BILLING CODE 6717-01-P